DEPARTMENT OF THE INTERIOR

National Park Service

[NPS-WASO-NRNHL-10781; 2200-3200-665]

National Register of Historic Places; Notification of Pending Nominations and Related Actions

Nominations for the following properties being considered for listing or related actions in the National Register were received by the National Park Service before June 30, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by August 13, 2012. Before including your address, phone number, email address, or other personal identifying information in your comment, you should be aware that your entire comment—including your personal identifying information—may be made publicly available at any time. While you can ask us in your comment to withhold your personal identifying information from public review, we cannot guarantee that we will be able to do so.

Dated: July 6, 2012.
J. Paul Loether,
Chief, National Register of Historic Places/National Historic Landmarks Program.

ALASKA

Valdez-Cordova Borough-Census Area

Pioneer Igloo Hall Number 19, 621 1st St., Cordova, 12000492

ARIZONA

Maricopa County

First Presbyterian Church of Peoria, 10236 N. 83rd Ave., Peoria, 12000493

CALIFORNIA

Mariposa County

Half Dome Cables and Trail, P.O. Box 577, Yosemite, 12000494

COLORADO

Jefferson County

Baugh, James H., House, 11361 W. 44th Ave., Wheat Ridge, 12000495

FLORIDA

Hillsborough County

Palmetto Beach Historic District, Roughly bounded by Durham, 28th, Thrace, & 22nd Sts., Tampa, 12000496

ILLINOIS

Vermilion County

Snider Cemetery, 1200 East Rd., Danville, 12000497

LOUISIANA

Orleans Parish

St. Bernard Market, 1522 St. Bernard Ave., New Orleans, 12000498

MASSACHUSETTS

Berkshire County

Howard, Frank, Building, 124-132 Fenn St., 67-71 Federal St., Pittsfield, 12000499

MISSOURI

Marion County

St. Elizabeth Hospital, 109 Virginia St., Hannibal, 12000500

MONTANA

Ravalli County

University Heights Historic District, 469 Bunkhouse Creek Rd., Darby, 12000501

NEW HAMPSHIRE

Carroll County

Beede Farm (Squam MPS), 178 Mill Bridge Rd., Sandwich, 12000502

Pratt Family Camps (Squam MPS), Address Restricted, Moultonborough, 12000503

Cheshire County

Stone Arch Bridge, Mi. 89.41 over Branch R., Keene, 12000504

Grafton County

Burleigh Brae and Webster Boathouse (Squam MPS), Address Restricted, Holderness, 12000505

Camp Carnes (Squam MPS), Address Restricted, Holderness, 12000506

True Farm, (Squam MPS) 53, 64, 70 True Farm Rd., & 884 NH 113, Holderness, 12000507

NEW YORK

Clinton County

Pike's Cantonment Site, Address Restricted, Plattsburg, 12000508

Herkimer County

Fort Plain Historic District, Roughly area around Canal & Main Sts., Fort Plain, 12000510

Jefferson County

Grindstone Island Upper Schoolhouse, 41591 Cross Island Rd., Clayton, 12000509

Rensselaer County

Van Rensselaer High School, 199 Washington Ave., Rensselaer, 12000511

Suffolk County

Riverhead Main Street Historic District, Roughly E. & W. Main Sts., Griffing, Roanoke, Maple, & Peconic Aves., Riverhead, 12000512

Ulster County

Pine Hill Historic District, Main, Academy, Elm, & Mill Sts., Bonnieview Ave., Pine Hill, Salomone, Station, & Old Turnpike Rds., Pine Hill, 12000513

NORTH CAROLINA

Swain County

Clingmans Dome Observation Tower, Terminus of Clingmans Dome Rd., Bryson City, 12000515

SOUTH DAKOTA

Lawrence County

Pearson Cabin, ⅓ mi. SE. of jct. of Radio Rd. & US 14, Deadwood, 12000514

TENNESSEE

Sevier County

Clingmans Dome Observation Tower, Terminus of Clingmans Dome Rd., Bryson City, 12000515

VIRGINIA

Alexandria Independent City

Contrabands and Freedmen Cemetery, 1001 S. Washington St., Alexandria (Independent City), 12000516

Alleghany County

Clifton Forge Historic District, Roughly bounded by Memorial Park, Crown Hill Cemetery, Dry Creek, Keswick, Lowell Main & Pine Sts., McCormick Blvd., Clifton Forge, 12000517

Loudoun County

Lovettsville Historic District, Roughly N. & S. Berlin Pike, E. Broad Way, S. Light, S. Locust, & S. Loudoun Sts., Lovettsville Rd., Lovettsville, 12000518

Richmond Independent City

Shockoe Slip Historic District (Boundary Increase III), 300 blk. S. 11th, 1200 & 1300 E. Byrd Sts., 1201 Haxall Pt., 13th St. Bridge, Richmond (Independent City), 12000519

Three Chopt Road Historic District, Three Chopt Rd. from Cary St. to Bandy Rd., Richmond (Independent City), 12000520

WISCONSIN

Rock County

St. John's Lutheran Church, 312 S. 3rd St., Evansville, 12000521

[FR Doc. 2012-18310 Filed 7-26-12; 8:45 am]

BILLING CODE 4312-51-P